COMMITTEE FOR PURCHASE FROM PEOPLE WHO ARE BLIND OR SEVERELY DISABLED

Procurement List; Proposed Additions and Deletion

AGENCY: Committee for Purchase From People Who Are Blind or Severely Disabled.

ACTION: Proposed additions to and deletion from the Procurement List.

SUMMARY: The Committee is proposing to add products and services to the Procurement List that will be furnished by nonprofit agencies employing persons who are blind or have other severe disabilities, and deletes a service previously provided by such agency.

Comments Must Be Received on or Before: June 25, 2012.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Patricia Briscoe, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 8501-8506) in connection with the products and services proposed for addition to the Procurement List.

Comments on this certification are invited. Commenters should identify the statement(s) underlying the certification on which they are providing additional information.

End of Certification

The following products and services are proposed for addition to the Procurement List for production by the nonprofit agencies listed:

Products

Extreme Cold Weather Sleep System (ECW)

NSN: 8415-MD-001-0270—Module, Extreme Cold Weather Sleeping Bag (ECW M) US Marine Corps, One size fits all.

NSN: 8415-MD-001-0267—Bag, Sleeping, Outer, Extreme Cold Weather (ECW OSB) US Marine Corps, One size fits all.

NPA: ReadyOne Industries, Inc., El Paso, TX.

Contracting Activity: DEPT OF THE ARMY, W6QK ACC-APG NATICK, NATICK, MA.

Coverage: C-List for 100% of the requirement of the Department of the Army, as aggregated by the Army Contracting Command—Aberdeen Proving Ground, Natick Contracting Division, Natick MA.

NSN: 1670-01-598-5067—Containerized Unitized Bulk Equipment (CUBE) Lifeliner, Water Kit.

NSN: 1670-01-598-5071—Containerized Unitized Bulk Equipment (CUBE) Lifeliner, Fuel Kit.

NPA: Peckham Vocational Industries, Inc., Lansing, MI.

Contracting Activity: Dept of the Army, W6QK ACC-APG Natick, Natick, MA.

Coverage: C-List for 50% of the requirement of the Department of the Army, as aggregated by the Army Contracting Command—Aberdeen Proving Ground, Natick Contracting Division, Natick MA.

Services

Service Type/Location: Laundry and Dry Cleaning Service, Buckley Air Force Base Lodging & Medical Facilities, Buckley AFB, CO.

NPA: Goodwill Industrial Services Corporation, Colorado Springs, CO.

Contracting Activity: Dept of the Air Force, FA2543 460 CONS LGC, Buckley AFB, CO.

Service Type/Location: Kitting Service—Defense High Threat Training Course (Offsite: 1102 Monticello Road, Charlottesville, VA), Department of State, 2216 Gallows Road, Dunn Loring, VA.

NPA: Virginia Industries for the Blind, Charlottesville, VA

Contracting Activity: Department of State, Dunn Loring, VA.

Deletion

Regulatory Flexibility Act Certification

I certify that the following action will not have a significant impact on a substantial number of small entities. The major factors considered for this certification were:

1. If approved, the action will not result in additional reporting, recordkeeping or other compliance requirements for small entities.

2. If approved, the action may result in authorizing small entities to provide the service to the Government.

3. There are no known regulatory alternatives which would accomplish the objectives of the Javits-Wagner-O'Day Act (41 USC 8501-8506) in connection with the service proposed for deletion from the Procurement List.

End of Certification

The following service is proposed for deletion from the Procurement List:

Service

Service Type/Location: Janitorial/Grounds Maintenance, U.S. Army Reserve Center: Mt. View, Mt. View, CA.

NPA: Social Vocational Services, Inc., San Jose, CA.

Contracting Activity: Dept of the Army, W40M Natl Region Contract OFC, Fort Belvoir, VA.

Patricia Briscoe,
Deputy Director, Business Operations, (Pricing and Information Management).

[FR Doc. 2012-12755 Filed 5-24-12; 8:45 am]

BILLING CODE 6353-01-P